DEPARTMENT OF COMMERCE

National Oceanic and Atmospheric Administration

50 CFR Part 679

[Docket No. 021213310-3170-02; I.D. 101702B]

RIN 0648-AP92

Individual Fishing Quota (IFQ) Program for Pacific Halibut and Sablefish; Technical Amendment

AGENCY: National Marine Fisheries Service (NMFS), National Oceanic and Atmospheric Administration (NOAA), Commerce.

ACTION: Final rule; correction.

SUMMARY: This document corrects errors in the amendatory instructions and table titles of the final rule published in the Federal Register on July 29, 2003. That final rule implemented Amendment 72 to the Fishery Management Plan for the Groundfish Fishery of the Bering Sea and Aleutian Islands Area (Amendment 72) and Amendment 64 to the Fishery Management Plan for the Groundfish Fishery of the Gulf of Alaska (Amendment 64) (collectively, Amendments 72/64).

DATES: Effective August 28, 2003.

FOR FURTHER INFORMATION CONTACT: Patsy A. Bearden, 907-586-7228 or by E-mail at patsy.bearden@noaa.gov.

SUPPLEMENTARY INFORMATION: The final rule published in the Federal Register on July 29, 2003 (FR Doc. 03-19132) modified Table 14 to part 679 (68 FR 9907). However, Table 14 is a collection of three tables, each of which is included in a separate appendix to 50 CFR part 679: Tables14a, 14b, and 14c. The language contained in amendatory instruction number 9, referenced only a change in Table 14a, although text was provided that effectively modified both 14a and 14b and left 14c unchanged. This change did not reflect accurately the intended revision.

The intent of the revision in the final rule was to add the contents of Table 14c to Table 14b, remove Table 14c, and modify the contents of both Table 14a and 14b. The net effect of this action would have been to combine the Washington State Port of Landing Codes into the table containing those codes for non-Alaska ports, including Canada and the States of California and Oregon, and remove the CDQ/IFQ Primary Ports for Vessel Clearance information from Tables 14a and 14b. This correction modifies the table titles to accurately reflect the intent of the final rule.

In addition, the table title was inserted into the body of the table, rather than added to the table title. This action corrects the table titles.

List of Subjects in 50 CFR Part 679

Alaska, Fisheries, Recordkeeping and reporting requirements.

Dated: August 22, 2003.
Rebecca Lent,
Deputy Assistant Administrator for Regulatory Programs,National Marine Fisheries Service.

For the reasons set forth in the preamble, 50 CFR part 679 is corrected as follows:

PART 679—FISHERIES OF THE EXCLUSIVE ECONOMIC ZONE OFF ALASKA

1. The authority citation for 50 CFR part 679 continues to read as follows:

Authority: 16 U.S.C. 773 et seq., 1801 et seq., and 3631 et seq.

Tables 14a and b [Amended]

2. In FR Doc. 03-19132 (July 29, 2003), on page 44487, second column, second to last line, amendatory instruction 9 is corrected to read as follows:

“9. In part 679, Tables 14a and b are revised to read, and Table 14c is removed as follows:”

3. On page 44487, third column, first line of the first column in Table 14a, the words “a. Alaska:” are removed, and the title of Table 14a is corrected to read as follows:

“Table 14a to Part 679. Port of Landing Codes: Alaska¹”

4. On page 44488, second column, second line of the first column in Table 14b, the words “b. Non-Alaska (California, Oregon, Canada, Washington):” are removed, and the title of Table 14b is corrected to read as follows:

“Table 14b to Part 679. Port of Landing Codes: Non-Alaska (California, Oregon, Canada, Washington”

[FR Doc. 03-22038 Filed 8-27-03; 8:45 am]

BILLING CODE 3510-22-S